DEPARTMENT OF ENERGY

Federal Energy Regulatory Commission

[Project No. 15045-000]

Current Hydro Project 19, LLC; Notice of Intent To File License Application, Filing of Pre-Application Document, Approving Use of the Traditional Licensing Process

a. Type of Filing: Notice of Intent to File License Application and Request to Use the Traditional Licensing Process.

b. Project No.: P-15045-000.

c. Date Filed: August 11, 2021.

d. Submitted By: Current Hydro Project 19, LLC (Current Hydro 19).

e. Name of Project: New Cumberland Locks and Dam Hydroelectric Project.

f. Location: At the U.S. Army Corps of Engineers' (Corps) New Cumberland Locks and Dam on the Ohio River in Hancock County, West Virginia and Jefferson County, Ohio. The project would occupy federal land administered by the Corps.

g. Filed Pursuant to: 18 CFR 5.3 of the Commission's regulations.

h. Potential Applicant Contact: Mr. Joel Herm, P.O. Box 224, Rhinebeck, NY 12572-0224; (917) 224-3607; joel@currenthydro.com.

i. FERC Contact: Jody Callihan at (202) 502-8278, or at jody.callihan@ferc.gov.

j. Current Hydro 19 filed its request to use the Traditional Licensing Process on August 11, 2021 and provided public notice of its request on the same date. In a letter dated October 8, 2021, the Director of the Division of Hydropower Licensing approved Current Hydro 19's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the West Virginia and Ohio State Historic Preservation Officers, as required by section 106, National Historic Preservation Act, and the implementing regulations of the Advisory Council on Historic Preservation at 36 CFR 800.2.

l. With this notice, we are designating Current Hydro 19 as the Commission's non-federal representative for carrying out informal consultation pursuant to section 7 of the Endangered Species Act; and consultation pursuant to section 106 of the National Historic Preservation Act.

m. Current Hydro 19 filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued on March 13, 2020. For assistance, contact FERC Online Support at FERCOnlineSupport@ferc.gov, (866) 208-3676 (toll free), or (202) 502-8659 (TTY). Register online at https://ferconline.ferc.gov/FERCOnline.aspx to be notified via email of new filings and issuances related to this or other pending projects. For assistance, contact FERC Online Support.

Dated: October 8, 2021.
Kimberly D. Bose,
Secretary.

[FR Doc. 2021-22521 Filed 10-14-21; 8:45 am]

BILLING CODE 6717-01-P